DEPARTMENT OF THE INTERIOR

Bureau of Land Management

[15X.LLID9570000. L14200000.BJ0000.241A.4500074039]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The field notes representing the remonumentation of certain original corners and monumentation of certain angle points of the Little Jacks Creek Wilderness boundary in T. 8 S., R. 1 E., Boise Meridian, Idaho, Group Number 1317, was approved July 25, 2014.

The field notes representing the remonumentation of certain original corners and monumentation of certain angle points of the Little Jacks Creek Wilderness boundary and Big Jacks Creek Wilderness Area 1 boundary in T. 8 S., R. 3 E., Boise Meridian, Idaho, Group Number 1317, was approved July 25, 2014.

The field notes representing the remonumentation of certain original corners and monumentation of certain angle points of the Big Jacks Creek Wilderness Area 1 boundary in T. 8 S., R. 4 E., Boise Meridian, Idaho, Group Number 1317, was approved July 25, 2014.

The field notes representing the remonumentation of certain original corners and monumentation of certain angle points of the Little Jacks Creek Wilderness boundary in T. 9 S., R. 2 E., Boise Meridian, Idaho, Group Number 1317, was approved July 25, 2014.

The field notes representing the remonumentation of certain original corners and monumentation of certain angle points of the Little Jacks Creek Wilderness boundary and Big Jacks Creek Wilderness Area 1 boundary in T. 9 S., R. 3 E., Boise Meridian, Idaho, Group Number 1317, was approved July 25, 2014.

The field notes representing the remonumentation of certain original corners and monumentation of certain angle points of the Big Jacks Creek Wilderness Area 1 boundary in T. 9 S., R. 4 E., Boise Meridian, Idaho, Group Number 1317, was approved July 25, 2014.

The field notes representing the remonumentation of certain original corners and monumentation of certain angle points of the Big Jacks Creek Wilderness Area 1 boundary in T. 10 S., R. 2 E., Boise Meridian, Idaho, Group Number 1317, was approved July 25, 2014.

The field notes representing the remonumentation of certain original corners and monumentation of certain angle points of the Big Jacks Creek Wilderness Area 1 boundary in T. 10 S., R. 3 E., Boise Meridian, Idaho, Group Number 1317, was approved July 25, 2014.

The plat constituting the entire survey record of the dependent resurvey of a portion of the west boundary, T. 10 S., R. 3 E., Boise Meridian, Idaho, Group Number 1317, was accepted July 25, 2014.

The field notes representing the remonumentation of certain original corners and monumentation of certain angle points of the Big Jacks Creek Wilderness Area 2 boundary in T. 11 S., R. 3 E., Boise Meridian, Idaho, Group Number 1317, was approved July 25, 2014.

The plat constituting the entire survey record of the dependent resurvey of portions of the east boundary and subdivisional lines, and the subdivision of sec. 24, T. 11 S., R. 3 E., Boise Meridian, Idaho, Group Number 1317, was accepted July 25, 2014.

The field notes representing the remonumentation of certain original corners and monumentation of certain angle points of the Big Jacks Creek Wilderness Area 2 boundary in T. 11 S., R. 4 E., Boise Meridian, Idaho, Group Number 1317, was approved July 25, 2014.

The supplemental plat showing new lots 1 and 2 in sec. 12, T. 8 N., R. 5 W., Boise Meridian, Idaho, Group Number 1424, was accepted September 5, 2014.

The supplemental plat portraying lot 7, T. 4 S., R. 36 E., Boise Meridian, Idaho, Group Number 1316, was accepted September 5, 2014.

These surveys were executed at the request of the U.S.D.A. Natural Resources Conservation Service to meet their administrative needs. The lands surveyed are:

The plat representing the dependent resurvey of portions of the First Standard Parallel North (north boundary) and subdivisional lines, and the subdivision of section 4, and a metes-and-bounds survey in section 4, T. 4 N., R. 24 E., of the Boise Meridian, Idaho, Group Number 1397, was accepted August 27, 2014.

The plat representing the dependent resurvey of portions of the north boundary and subdivisional lines, and the subdivision of sections 4, 9, 10, 13, 14, 15, and 23, T. 2 N., R. 24 E., of the Boise Meridian, Idaho, Group Number 1396, was accepted September 25, 2014.

The plat represents the dependent resurvey of portions of the First Standard Parallel North (south boundary), west boundary, and subdivisional lines, and the subdivision of sections 30 and 31, and a metes-and-bounds survey in sections 30 and 31, T. 5 N., R. 24 E., of the Boise Meridian, Idaho, Group Number 1398, was accepted September 25, 2014.

This survey was executed at the request of the U. S. Forest Service to meet certain administrative and management purposes.

The plat representing the dependent resurvey of a portion of Tract 39, and the survey of portions of the east boundary and subdivisional lines, T. 30 N., R. 7 E., of the Boise Meridian, Idaho, Group Number 1324, was accepted June 19, 2014.

Dated: October 30, 2014.
Stanley G. French,
Cadastral Surveyor for Idaho.

[FR Doc. 2014-26828 Filed 11-12-14; 8:45 am]

BILLING CODE 4310-GG-P